DEPARTMENT OF COMMERCE

National Oceanic and Atmospheric Administration

Proposed Information Collection; Comment Request; Permitting, Vessel Identification, and Vessel Monitoring System Requirements for the Commercial Bottomfish Fishery in the Commonwealth of the Northern Mariana Islands

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before November 28, 2011.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Requests for additional information or copies of the information collection instrument and instructions should be directed to Walter Ikehara, (808) 944-2275 or Walter. Ikehara@noaa.gov.

SUPPLEMENTARY INFORMATION:

I. Abstract

This request is for a revision and extension of a currently approved information collection (the National Marine Fisheries Service (NMFS) is now requiring a permit fee).

NMFS requires that owners of commercial fishing vessels in the bottomfish fishery in the Commonwealth of the Northern Mariana Islands (CNMI) obtain a federal bottomfish permit. If their vessels are over 40 ft. (12.2 m) long, they must also mark their vessels in compliance with federal identification requirements and carry and maintain a satellite-based vessel monitoring system (VMS). This collection of information is needed for permit issuance, to identify actual or potential participants in the fishery, and aid in enforcement of regulations and area closures.

II. Method of Collection

Respondents have a choice of either electronic or paper forms. Methods of submittal include e-mail of electronic forms, and mail and facsimile transmission of paper forms. VMS data are collected electronically and automatically.

III. Data

OMB Control Number: 0648-0584.

Form Number: None.

Type of Review: Regular submission (revision and extension of a currently approved collection).

Affected Public: Not-for-profit institutions; state, local, or tribal government; business or other for-profit organizations.

Estimated Number of Respondents: 125 total; 6 medium-large vessels (over 40 ft).

Estimated Time per Response: Permit applications and renewals, 30 minutes; vessel identification, 45 minutes; initial VMS installation, 2 hours; VMS maintenance, 2 hours annually.

Estimated Total Annual Burden Hours: 84.

Estimated Total Annual Cost to Public: $4,385.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: September 21, 2011.
Gwellnar Banks,
Management Analyst, Office of the Chief Information Officer.

[FR Doc. 2011-24736 Filed 9-26-11; 8:45 am]

BILLING CODE 3510-22-P